FEDERAL COMMUNICATIONS COMMISSION

47 CFR Part 27

[WT Docket No. 18-120; DA 19-1160]

Transforming the 2.5 GHz Band; Correction

AGENCY: Federal Communications Commission.

ACTION: Final rule; correction.

SUMMARY: The Federal Communications Commission (Commission) is correcting a final rule that appeared in the Federal Register on October 25, 2019. In the document, the Commission took another step towards making more mid-band spectrum available for next generation wireless services benefitting all Americans. Specifically, the Commission transformed the regulatory framework governing the 2.5 GHz band (2496-2690 MHz), which is the single largest band of contiguous spectrum below 3 gigahertz.

DATES: The corrections to § 27.14 are effective November 25, 2019; the correction to § 27.1219 is effective April 27, 2020.

FOR FURTHER INFORMATION CONTACT: John Schauble of the Wireless Telecommunications Bureau, Broadband Division, at (202) 418-0797 or John.Schauble@fcc.gov.

SUPPLEMENTARY INFORMATION: In FR Doc. 2019-22511 appearing on page 57343 in the Federal Register on October 25, 2019, the following corrections are made:

§ 27.14 [Corrected]

1. On page 57364, in the third column, amend § 27.14(u)(4) by removing the two entries “(o)(2) or (3)” and adding, in their places, the entries “(u)(2) or (3)”.

2. On page 57365, in the first column, amend § 27.14(u)(5) by removing the two entries “(o)(2) or (3)” and adding, in their places, the entries “(u)(2) or (3)”.

§ 27.1219 [Corrected]

3. On page 57367, in the first column, amend § 27.1219(a)(1) by removing the word “have” and adding, in its place, the word “has”.

Federal Communications Commission.
John Schauble,
Deputy Chief, Broadband Division, Wireless Telecommunications Bureau.

[FR Doc. 2019-25202 Filed 11-20-19; 8:45 am]

BILLING CODE 6712-01-P